DEPARTMENT OF TRANSPORTATION

Federal Aviation Administration

14 CFR Part 39

[Docket No. 2003-NM-186-AD; Amendment 39-13918; AD 2004-26-06]

RIN 2120-AA64

Airworthiness Directives; Boeing Model 767-300 and 767-300F Series Airplanes Equipped With General Electric or Pratt & Whitney Engines

AGENCY: Federal Aviation Administration, DOT.

ACTION: Final rule.

SUMMARY: This amendment adopts a new airworthiness directive (AD), that is applicable to certain Boeing Model 767-300 and 767-300F series airplanes equipped with General Electric or Pratt & Whitney engines. This AD requires reworking the wing-to-strut diagonal braces and the aft pitch load fittings of the wings, and reinstalling the diagonal braces with new fuse pins and associated hardware. This action is necessary to prevent undetected loss of the diagonal brace fuse pins of the wings and consequent increased loads in other wing-to-strut joints, which could result in separation of the struts and engines from the wings. This action is intended to address the identified unsafe condition.

DATES: Effective February 10, 2005.

The incorporation by reference of certain publications listed in the regulations is approved by the Director of the Federal Register as of February 10, 2005.

ADDRESSES: The service information referenced in this AD may be obtained from Boeing Commercial Airplanes, P.O. Box 3707, Seattle, Washington 98124-2207. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Suzanne Masterson, Aerospace Engineer, Airframe Branch, ANM-120S, FAA, Seattle Aircraft Certification Office, 1601 Lind Avenue, SW., Renton, Washington 98055-4056; telephone (425) 917-6441; fax (425) 917-6590.

SUPPLEMENTARY INFORMATION: A proposal to amend part 39 of the Federal Aviation Regulations (14 CFR part 39) to include an airworthiness directive (AD) that is applicable to certain Boeing Model 767-300 and 767-300F series airplanes equipped with General Electric or Pratt & Whitney engines was published in the Federal Register on April 1, 2004 (69 FR 17080). That action proposed to require reworking the wing-to-strut diagonal braces and the aft pitch load fittings of the wings, and reinstalling the diagonal braces with new fuse pins and associated hardware. For certain airplanes, that proposal would require replacing the bushings of the aft pitch load fittings, installing new fuse pins, and reworking the fittings, as applicable

Comments

Interested persons have been afforded an opportunity to participate in the making of this amendment. Due consideration has been given to the comments received.

Request for Credit for Actions Accomplished per Revision 1 of the Service Bulletin

Two commenters, the manufacturer and one operator, request that the FAA give credit for actions accomplished in accordance with Boeing Alert Service Bulletin 767-54A0096, Revision 1, dated July 12, 2001. The commenters indicate that the proposed AD references Boeing Alert Service Bulletin 767-54A0096, Revision 2, dated December 18, 2003, as the appropriate source of information, and point out that Revision 2 states that no more work is necessary on airplanes modified in accordance with Revision 1.

We do not agree with the commenters' request. The statement in Revision 2 of the service bulletin that “No more work is necessary on airplanes changed as shown in Revision 1 of this service bulletin,” is incorrect. Revision 2 of the service bulletin revises, among other changes, the bushing swage lip dimension in Figures 3 and 6 of Revision 1 of the service bulletin. Therefore, we have determined that accomplishing the rework specified in Revision 1 does not adequately address the identified unsafe condition.

In addition, since we issued the proposed AD, Boeing has issued and we have reviewed Service Bulletin Information Notice (IN) 767-54A0096 IN 03, dated April 15, 2004, which corrects an additional dimension (i.e., the bushing swage groove radius dimension) in Figures 3 and 6 of Revision 2. We have reworded paragraphs (a) and (b) of this AD to address that IN. After the effective date of this AD, no operator can be in compliance with the requirements of this AD without accomplishing the requirements of Revision 2 of the service bulletin as modified by the IN. However, an operator may request approval of an alternative method of compliance (AMOC) for the requirements of this AD as specified in paragraph (c) of this AD. The operator must submit supporting data showing that the unsafe condition of the airplane will be properly addressed.

Request To Change the Compliance Grace Period

A third commenter, another operator, requests that the compliance grace period be changed from 18 months to 24 months. The operator states that a prior AD regarding a condition with similar structural elements and failure mode in Boeing Model 767-300 and 767-300F series airplanes allows a compliance time of 24 months. The operator states this will allow modification of airplanes during regularly scheduled heavy maintenance visits and will eliminate added costs for special scheduling.

We agree. Our original intent was to allow the modification to be accomplished at a regularly scheduled heavy maintenance visit, and we are aware that such schedules vary from operator to operator. We have determined that extending the compliance time by 6 months will not adversely affect safety and have modified paragraphs (a)(2) and (b) of this final rule accordingly.

Request To Clarify Service Bulletin Requirement for Removing Engine and Strut

The same commenter requests that the proposed AD be changed regarding the service bulletin reference to Boeing 767 Airplane Maintenance Manual (AMM) Subject 54-51-01. The commenter states that AMM Subject 54-51-01 requires removal of the engine and strut to remove the diagonal brace while AMM Subject 54-51-05 does not. The commenter states that the modification required by the proposed AD can be accomplished by following AMM Subject 54-51-05 and asks that the AD be changed to permit AMM Subject 54-51-05 to be used.

We have reviewed both AMM procedures and have determined that the procedure in AMM Subject 54-51-05 is an acceptable alternative to the procedure in Subject AMM 54-51-01. We have changed paragraphs (a) and (b) of the final rule to state that either AMM Subject 54-51-05 or AMM Subject 54-51-01 may be used to accomplish the requirements of the final rule.

Request To Include Pending Revision of Service Bulletin

The same commenter requests that the proposed AD be revised to incorporate the pending Revision 3 of Boeing Service Bulletin 767-54A0096 or to have Revision 3 designated as an AMOC to this proposed AD. The commenter states that the manufacturer indicates that discrepancies noted in this and previous comments and in the previously referenced IN will be incorporated in Revision 3. The commenter suggests this will clarify any unclear or illogical sequence of work steps appearing in Revision 2 of the service bulletin.

We do not agree. Considering the urgency of the unsafe condition, we will not hold an AD for a prolonged period until a new revision of a service bulletin has been released. We also cannot designate in the AD that the new revision is an AMOC. However, when the new revision of the service bulletin has been released, we will review it and consider approving it as an AMOC. We have not changed the final rule in this regard.

Conclusion

After careful review of the available data, including the comments noted above, we have determined that air safety and the public interest require the adoption of the rule with the changes previously described. The FAA has determined that these changes will neither increase the economic burden on any operator nor increase the scope of the AD.

Cost Impact

There are approximately 92 airplanes of the affected design in the worldwide fleet. The FAA estimates that 53 airplanes of U.S. registry will be affected by this AD, that it will take approximately between 14 and 24 work hours per airplane to accomplish the required actions, and that the average labor rate is $65 per work hour. Required parts will cost approximately $18,704 per airplane. Based on these figures, the cost impact of this AD on U.S. operators is estimated to be between $1,039,542 and $1,073,992, or between $19,614 and $20,264 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

The FAA's authority to issue rules regarding aviation safety is found in Title 49 of the United States Code. Subtitle I, Section 106, describes the authority of the FAA Administrator. Subtitle VII, Aviation Programs describes in more detail the scope of the agency's authority.

This rulemaking is promulgated under the authority described in Subtitle VII, Part A, Subpart III, Section 44701, “General requirements.” Under that section, the FAA is charged with promoting safety flight of civil aircraft in air commerce by prescribing regulations for practices, methods, and procedures the Administrator finds necessary for safety in air commerce. This regulation is within the scope of that authority because it addresses an unsafe condition that is likely to exist or develop on products identified in this AD.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-26-06 Boeing: Amendment 39-13918. Docket 2003-NM-186-AD.

Applicability: Model 767-300 and 767-300F series airplanes, equipped with General Electric or Pratt & Whitney engines; as listed in Boeing Alert Service Bulletin 767-54A0096, Revision 2, dated December 18, 2003; certificated in any category.

Compliance: Required as indicated, unless accomplished previously.

To prevent undetected loss of the diagonal brace fuse pins of the wings and consequent increased loads in other wing-to-strut joints, which could result in separation of the struts and engines from the wings, accomplish the following:

Rework and Reinstallation

(a) Remove and rework the diagonal braces of the engine nacelles/pylons, rework the aft pitch load fittings of the wings, and reinstall the diagonal braces with new fuse pins and associated hardware by doing all actions specified in steps 3.B.1. through 3.B.11. inclusive, of the Work Instructions of Boeing Alert Service Bulletin 767-54A0096, Revision 2, dated December 18, 2003, as modified by Boeing Service Bulletin Information Notice 767-54A0096 IN 03, dated April 15, 2004. Where the service bulletin directs that the Boeing 767 Airplane Maintenance Manual (AMM) Subject 54-51-01 must be used, either AMM Subject 54-51-01 or AMM Subject 54-51-05 may be used. Do the actions at the later of the times specified in paragraphs (a)(1) and (a)(2) of this AD.

(1) Prior to the accumulation of 12,000 total flight cycles, or within 6 years after the date of issuance of the original Airworthiness Certificate or the original Export Certificate of Airworthiness, whichever occurs first.

(2) Within 24 months after the effective date of this AD.

Additional Work for Airplanes Modified per the Original Issue of the Service Bulletin

(b) For airplanes modified in accordance with the original issue of Boeing Service Bulletin 767-54-0096, dated August 31, 2000: Within 24 months after the effective date of this AD, replace the bushings of the aft pitch load fittings of the wings with new bushings, rework the aft pitch load fittings, and install new fuse pins, by doing all actions specified in steps 3.B.1. through 3.B.10. inclusive, of the Work Instructions Additional Work section of Boeing Alert Service Bulletin 767-54A0096, Revision 2, dated December 18, 2003, as modified by Boeing Service Bulletin Information Notice 767-54A0096 IN 03, dated April 15, 2004. Where the service bulletin directs that the Boeing 767 AMM Subject 54-51-01 must be used, either AMM Subject 54-51-01 or AMM Subject 54-51-05 may be used.

Alternative Methods of Compliance

(c)(1) In accordance with 14 CFR 39.19, the Manager, Seattle Aircraft Certification Office (ACO), FAA, is authorized to approve alternative methods of compliance (AMOCs) for this AD.

(2) An AMOC that provides an acceptable level of safety may be used for any repair required by this AD, if it is approved by a Boeing Company Designated Engineering Representative who has been authorized by the Manager, Seattle ACO, to make such findings.

Incorporation by Reference

(d) The actions shall be done in accordance with Boeing Alert Service Bulletin 767-54A0096, Revision 2, December 18, 2003, as modified by Boeing Service Bulletin Information Notice 767-54A0096 IN 03, dated April 15, 2004. This incorporation by reference was approved by the Director of the Federal Register in accordance with 5 U.S.C. 552(a) and 1 CFR part 51. Copies may be obtained from Boeing Commercial Airplanes, P.O. Box 3707, Seattle, Washington 98124-2207. Copies may be inspected at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

Effective Date

(e) This amendment becomes effective on February 10, 2005.

Issued in Renton, Washington, on December 20, 2004.
Kevin M. Mullin,
Acting Manager, Transport Airplane Directorate, Aircraft Certification Service.

[FR Doc. 05-108 Filed 1-5-05; 8:45 am]

BILLING CODE 4910-13-P